DEPARTMENT OF AGRICULTURE

Forest Service

Information Collection; Equal Opportunity Compliance Review Record

AGENCY: Forest Service, USDA.

ACTION: Notice; request for comment.

SUMMARY: In accordance with the Paperwork Reduction Act of 1995, the Forest Service is seeking comments from all interested individuals and organizations on the new information collection, Equal Opportunity Compliance Review Record.

DATES: Comments must be received in writing on or before September 12, 2011 to be assured of consideration. Comments received after that date will be considered to the extent practicable.

ADDRESSES: Comments concerning this notice should be addressed to Civil Rights, Mail Stop 1142, Forest Service, USDA, 1400 Independence Ave., SW., Washington, DC 20250-1142.

Comments also may be submitted via facsimile to 202-260-5054 or by e-mail to: pjackman@fs.fed.us.

The public may inspect comments received at USDA Forest Service, Civil Rights, 201 14th St., SW., Room 4SW, Washington, DC 20024 during normal business hours. Visitors are encouraged to call ahead to 202-205-8534 to facilitate entry to the building.

FOR FURTHER INFORMATION CONTACT: Pat Jackman, Civil Rights, 202-205-0989 or pjackman@fs.fed.us. Individuals who use a TTY may call 711 or the Federal Relay Service (FRS) at 1-800-877-8339, 24 hours a day, every day of the year, including holidays.

SUPPLEMENTARY INFORMATION: Title: Equal Opportunity Compliance Review Record.

OMB Number: 0596-0215 renewal.

Type of Request: Renewal.

Abstract:

All Federal agencies must comply with equal opportunity laws:

• Title VI of the Civil Rights Act of 1964, as amended.

• Title IX of the Education Amendments Act of 1972.

• The Age Discrimination Act of 1975, as amended.

• Section 504 of the Rehabilitation Act of 1973, as amended.

• Executive orders prohibiting discrimination in the delivery of all programs and services to the public.

Federal agencies and entities receiving Federal financial assistance are prohibited from discriminating. Federal financial assistance is defined as, “Federal monies given by grants, cooperative agreements, commercial special use permits, training, loan/temporary assignment of Federal personnel, or loan/use of Federal property at below market value.”

The equal opportunity laws require agencies to conduct compliance reviews to ensure that entities receiving Federal Financial Assistance from the government are adhering to the nondiscrimination statutes. The statutes require that prior to awarding support or issuing permits, the Federal government shall conduct pre-award reviews to ensure that potential recipients understand their responsibilities to provide services equitable pursuant to the law. Thereafter, during the partnership with the agency, ongoing monitoring will take place to ensure the public is being served without any barriers or discrimination.

Forest Service employees will use form FS-1700-6, Equal Opportunity Compliance Review Record, to collect information regarding actions taken by recipients of Federal financial assistance to ensure the public receives services without discrimination or barriers to access, and that recipients' employees understand their customer service role. Collection will occur during face-to-face meetings or telephone interviews conducted by Forest Service employees as part of the pre-award and post award process. The pre-award interview will take place prior to the award of a grant, signing of a cooperative agreement, letting of commercial special use permit, or similar activity. The post award interview will take place once every 5 years, or upon report/discovery of discrimination.

The information collected will only be shared with other Federal agencies who share in the financial assistance activities with the Forest Service. Monitoring reviews have been a responsibility of the Federal government since 1964. Without the ability to monitor recipients of Federal financial assistance, the Forest Service would not be able to ensure compliance with laws and statutes. The agency would not be aware of potential violations, thereby resulting in potential discriminatory practices.

Estimate of Annual Burden: 1 hour.

Type of Respondents: Recipients of Federal financial assistance.

Estimated Annual Number of Respondents: 11,000.

Estimated Annual Number of Responses per Respondent: One.

Estimated Total Annual Burden on Respondents: 11,000.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: July 6, 2011.
Kathleen Atkinson,
Associate Deputy Chief.

[FR Doc. 2011-17444 Filed 7-11-11; 8:45 am]

BILLING CODE 3410-11-P